ENVIRONMENTAL PROTECTION AGENCY

[ER-FRL-9036-9]

Environmental Impact Statements; Notice of Availability

Responsible Agency: Office of Federal Activities, General Information (202) 564-7146 or http://www2.epa.gov/nepa.

Weekly receipt of Environmental Impact Statements (EISs)

Filed 12/25/2017 Through 12/29/2017

Pursuant to 40 CFR 1506.9.

Notice:

Section 309(a) of the Clean Air Act requires that EPA make public its comments on EISs issued by other Federal agencies. EPA's comment letters on EISs are available at: https://cdxnodengn.epa.gov/cdx-nepa-public/action/eis/search

EIS No. 20170249, Draft, OSM, MT, Western Energy Company's Rosebud Mine Area F, Comment Period Ends: 02/20/2018, Contact: Logan Sholar, OSMRE Project Coordinator (303) 293-5036.

Dated: January 2, 2018.
Kelly Knight,
Director, NEPA Compliance Division, Office of Federal Activities.

[FR Doc. 2018-00019 Filed 1-4-18; 8:45 am]

BILLING CODE 6560-50-P